DEPARTMENT OF DEFENSE

Department of the Army

Performance Review Board Membership for the U.S. Army Acquisition Executive

AGENCY: Department of the Army, DoD.

ACTION: Notice.

SUMMARY: Notice is given of the names of members of a Performance Review Board for the Department of the Army.

EFFECTIVE DATE: November 13, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Acquisition Executive are:

1. Edward Bair, Program Executive Officer, Intelligence, Electronic Warfare, and Senors, AAE.

2. Ernestine Ballard, Deputy ASA (Policy & Procurement), OASA (Acquisition, Logistics & Technology).

3. Donald Barker, Deputy Program Executive Officer, Tactical Missiles and Smart Munitions.

4. MG Joseph L. Bergantz, Program Executive Officer, Aviation.

5. James T. Blake, Deputy to the Commander, PEO STRI.

6. Paul Bogosian, Deputy Program Executive for Aviation, AAE.

7. T. Kevin Carroll, Program Executive Officer, Enterprise Information Structure, AAE.

8. Donald L. Damstetter, Jr., Deputy Assistant Secretary for Plans, Programs, and Resource, OASA (Acquisition, Logistics & Technology).

9. Edward G. Elgart, Director, CECOM Acquisition Center.

10. Kevin J. Flamm, Program Manager for Chemical Demilitarization Operations OASA (Acquisition, Logistics & Technology).

11. Craig D. Hunter, Deputy Assistant Secretary of the Army (Defense Exports and Cooperation), OASA (Acquisition, Logistics & Technology).

12. Joann H. Langston, Competition Advocate of the Army, Army Acquisition Executive Support Agency.

13. Russell W. Lenz, Director, Simulation and Training Technology Center, Research, Development and Engineering Command.

14. BG Michael R. Mazzucchi, Program Executive Officer, Command, Control, and Communications (Tactical).

15. Steven L. Messervy, Program Manager, Joint Simulation Systems, Army Acquisition Executive Support Agency.

16. Levator Norsworthy, Jr., Deputy General Counsel (Acquisition), Office of the General Counsel.

17. Michael A. Parker, Deputy to the Commander, U.S. Army Soldier & Biological Chemical Command.

18. John C. Perrapato, Deputy Program Executive Officer, Command and Control Systems, AAE.

19. Shelba J. Proffitt, Deputy Program Executive Officer, Air and Missile Defense, AAE.

20. Sandra O. Sieber, Director, Army Contracting Agency.

21. Albert P. Puzzuoli, Deputy Program Executive Officer, Armored Systems Modernization, AAE.

22. Wimpy D. Pybus, Deputy Assistant Secretary of the Army for Integrated Logistics Support, OASA (Acquisition, Logistics & Technology).

23. BG Stephen M. Seay, Program Executive Officer, PEO STRI.

24. BG Jeffrey A. Sorenson, Program Executive Officer, Tactical Missiles.

25. MG John M. Urias, Program Executive Officer, Air Missile Defense/Deputy Command General for Research, Development and Acquisition, U.S. Army Space and Missile Defense Command.

26. MG Joseph L. Yakovac, Program Executive Officer, Ground Combat Systems.

Luz D. Ortiz,
Army Federal Register Liaison Officer.

[FR Doc. 03-29008 Filed 11-19-03; 8:45 am]

BILLING CODE 3710-08-M